INTERNATIONAL TRADE COMMISSION

[Investigation No. 337-TA-1204]

Certain Chemical Mechanical Planarization Slurries and Components Thereof; Commission Determination Not To Review an Initial Determination Granting Complainant's Motion To Amend the Complaint and the Notice of Investigation

AGENCY: U.S. International Trade Commission.

ACTION: Notice.

SUMMARY: Notice is hereby given that the U.S. International Trade Commission has determined not to review an initial determination (“ID”) (Order No. 7) of the presiding administrative law judge (“ALJ”) granting complainants' motion to amend the complaint and the notice of investigation.

FOR FURTHER INFORMATION CONTACT: Michael Liberman, Esq., Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On July 7, 2020, the Commission instituted this investigation under section 337 of the Tariff Act of 1930, as amended, 19 U.S.C. 1337 (“section 337”), based on a complaint filed by Cabot Microelectronics Corporation of Aurora, Illinois (“Cabot”). 85 FR 40685-86 (Jul. 7, 2020). The complaint alleges a violation of section 337 in the importation into the United States, the sale for importation, or the sale within the United States after importation of certain chemical mechanical planarization slurries and components thereof by reason of infringement of one or more of claims 1, 3-6, 10, 11, 13, 14, 18-20, 24, 26-29, 31, 35-37, and 39-44 of U.S. Patent No. 9,499,721 (“the '721 patent”). The complaint also alleges the existence of a domestic industry. The notice of investigation names as respondents DuPont de Nemours, Inc. of Wilmington, Delaware; Rohm and Haas Electronic Materials CMP Inc. of Newark, Delaware; Rohm and Haas Electronic Materials CMP Asia Inc. (d/b/a Rohm and Haas Electronic Materials CMP Asia Inc., Taiwan Branch (U.S.A.)) of Taoyuan City, Taiwan; Rohm and Haas Electronic Materials Asia-Pacific Co., Ltd. of Miaoli, Taiwan; Rohm and Haas Electronic Materials K.K. of Tokyo, Japan; and Rohm and Haas Electronic Materials LLC of Marlborough, Massachusetts. Id. at 40686. The Commission's Office of Unfair Import Investigations is also named as a party in this investigation. Id.

On September 3, 2020, pursuant to Commission Rule 210.14(b)(1), 19 CFR 210.14(b)(1), complainant Cabot filed a motion for leave to amend the complaint and the notice of investigation to assert infringement of claims 17 and 46 of the `721 patent. Mot. at 1. The motion states that “[a]ll other parties stated that they will not oppose this Motion.” Id. No response was filed.

On October 1, 2020, the ALJ issued the subject ID (Order No. 7) granting complainant's motion. The ID finds that, based on the review of the evidence, good cause exists to amend the complaint and the notice of investigation to add an allegation of infringement of claims 17 and 46 of the `721 patent. The ID further finds that this amendment would not prejudice the public interest or the rights of the parties to the investigation. No party petitioned for review of the ID.

The Commission has determined not to review the subject ID.

The Commission vote for this determination took place on October 16, 2020.

The authority for the Commission's determination is contained in section 337 of the Tariff Act of 1930, as amended, 19 U.S.C. 1337, and in Part 210 of the Commission's Rules of Practice and Procedure, 19 CFR part 210.

By order of the Commission.
Issued: October 19, 2020.
Lisa Barton,
Secretary to the Commission.

[FR Doc. 2020-23415 Filed 10-21-20; 8:45 am]

BILLING CODE 7020-02-P